DEPARTMENT OF AGRICULTURE

Forest Service

Lake Tahoe Basin Management Unit; El Dorado Co., CA, Douglas Co., NV, Alpine Co., CA, Heavenly Mountain Resort Master Plan Amendment, 2006

AGENCY: Forest Service, USDA.

ACTION: Notice of intent to prepare an environmental impact statement.

SUMMARY: The Department of Agriculture, Forest Service, Lake Tahoe Basin Management Unit, will prepare a Draft Environmental Impact Statement (DEIS) for the Heavenly Mountain Resort Master Plan Amendment, 2006. This update includes operational improvements for more efficient use of existing and proposed ski facilities, better skier dispersal, summer activities and lodge locations. Heavenly Mountain Resort is located within El Dorado and Alpine Co., California, and Douglas Co., Nevada, on the border between California and Nevada, adjacent to the community of Stateline. This Master Plan Amendment is submitted based on the existing 1996 Master Plan as part of Heavenly's special use permit.

DATES: Comments concerning the scope of the analysis must be received by October 3, 2005. The draft environmental impact statement is expected by December 2005 and the final environmental impact statement is expected by June 2006.

ADDRESSES: Send written comments to Janine Clayton, Acting Forest Supervisor, Lake Tahoe Basin Management Unit, 35 College Dr., South Lake Tahoe, California, 96150, email: comments-pacificsouthwest-ltbmu@fs.fed.us.

FOR FURTHER INFORMATION CONTACT: Douglas Ridley, Interdisciplinary Team Leader, Lake Tahoe Basin Management Unit, 35 College Dr., South Lake Tahoe, CA, 96150.

SUPPLEMENTARY INFORMATION:

Purpose and Need for Action

Alpine skiing is the predominant land use within the Heavenly Management Area. The Master Plan Amendment, 2006 is expected to optimize the quality of skiing based upon annual assessments of the skiing experience. The Forest Plan identifies maintaining a quality ski resort as a desired future condition, thus the Master Plan Amendment, 2006 responds to changes in technology, resort ownership, market trends and user preferences.

Proposed Action

The Heavenly Master Plan Amendment, 2006 is intended to update the existing 1996 Heavenly Ski Resort Master Plan in order to incorporate recommendations from comprehensive studies regarding lift technology, mountain utilization and lodge locations. The DEIS will tier where appropriate from the adopted 1996 Heavenly Ski Resort EIS/EIR. The Master Plan provides for more efficient use of ski facilities and summer activities, a better balance of skiers/riders between lifts and trails, and improvement of facilities within the existing, developed ski area to maximize guest safety and experience.

Possible Alternatives

Alternative 1 is a No Action/No Project alternative. All future development would adhere to projects listed in the existing approved master plan and be subject to all mitigation measures, project limitations and timelines described therein. Alternative 2 is the Proposed Action and is based on updating the 1996 Heavenly Ski Resort Master Plan. The goal is improvement rather than expansion of resort lift technology, facilities and recreation activities. Additional alternatives may differ from the Proposed Action with possible revisions to the North Bowl Express alignment, ski trail design, snowmaking, and relocation of facilities and roads.

Lead and Cooperating Agencies

The USDA Forest Service, Lake Tahoe Basin Management Unit will serve as the lead federal agency. It will produce an Environmental Impact Statement (EIS) that satisfies the requirements of the National Environmental Policy Act (NEPA) and the Tahoe Regional Planning Agency (TRPA). The TRPA is the lead agency under the Tahoe Regional Planning Compact and will serve as the lead agency for a TRPA EIS. El Dorado County, California will serve as the lead agency for preparation of an Environmental Impact Report (EIR) under the California Environmental quality Act (CEQA). The intention is to produce a joint document meeting the requirements of NEPA, TRPA and CEQA.

Responsible Official

The responsible official is Janine Clayton, Acting Forest Supervisor, Lake Tahoe Basin Management Unit, 35 College Dr., South Lake Tahoe, California, 96150.

Nature of Decision To Be Made

The Forest Service expects that a DEIS will be filed and made available to the public and other commenting entities in December, 2005. Following public comment, a Final Environmental Impact Statement (FEIS) is scheduled to be issued in June 2006 by the Forest Service. The LTBMU expects an insignificant amendment to the Forest Plan.

Scoping Process

A public scoping meeting will be held on Wednesday, September 21 at 7 p.m. at the Lake Tahoe Basin Management Unit's Forest Supervisor's office, 35 College Drive, South Lake Tahoe, California. Scoping will occur on September 14 at the TRPA Advisory Planning Commission meeting at the TRPA Governing Board Rooms, 128 Market Street, Stateline, NV. Scoping will continue at the September 28 TRPA Governing Board meeting at the North Tahoe conference center, 8381 North Lake Blvd., Kings Beach, CA.

Preliminary Issues

During preparation of the Master Plan Amendment 2005 Environmental Assessment, the following issues were identified: The need to prepare a project-level biological evaluation to analyze old growth and wildlife habitat; scenic quality, and project implementation in a stream environment zone. Due to the significance of these issues, it was decided to complete an EIS and not issue a decision under the EA.

Permits or Licenses Required

The TRPA will issue project specific permits for projects and activities within the Lake Tahoe Region, as approved under the Heavenly Mountain Resort Master Plan Amendment.

Comment Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: August 23, 2005.
Tyrone Kelley,
Deputy Forest Supervisor, LTBMU.

[FR Doc. 05-17154 Filed 8-29-05; 8:45 am]

BILLING CODE 3410-11-M